DEPARTMENT OF LABOR

Office of Job Corps; Advisory Committee on Job Corps; Meeting

AGENCY: Office of Job Corps, Labor.

ACTION: Notice of Advisory Committee meeting.

SUMMARY: The Advisory Committee on Job Corps (ACJC) was established in accordance with the provisions of the Workforce Investment Act, 29 U.S.C. 2895, and the Federal Advisory Committee Act on August 22, 2006 (71 FR 48949). The Committee was established to advance Job Corps' new vision for student achievement aimed at 21st century high-growth employment. This Committee will also evaluate Job Corps program characteristics, including its purpose, goals, and effectiveness, efficiency, and performance measures in order to address the critical issues facing the provision of job training and education to the youth population that it serves. The Committee may provide other advice and recommendations with regard to identifying and overcoming problems, planning program or center development or strengthening relations between Job Corps and agencies, institutions, or groups engaged in related activities.

DATES: July 10, 2007, 9 a.m. to 5 p.m. The meeting will be in the morning and a panel of experts will brief the Committee in the afternoon on various topics related to the Job Corps program.

ADDRESSES: The Advisory Committee meeting will be held at the Residence Inn Arlington Pentagon City, 550 Army Navy Drive, Arlington, VA 22202.

FOR ADDITIONAL INFORMATION CONTACT: The Office of Job Corps at 202-693-3000 (this is not a toll-free number).

SUPPLEMENTARY INFORMATION: The Advisory Committee on Job Corps (ACJC) was established in accordance with the provisions of the Workforce Investment Act, 29 U.S.C. 2895, and the Federal Advisory Committee Act on August 22, 2006 (71 FR 48949). The Committee was established to advance Job Corps' new vision for student achievement aimed at 21st century high-growth employment. This Committee will also evaluate Job Corps program characteristics, including its purpose, goals, and effectiveness, efficiency, and performance measures in order to address the critical issues facing the provision of job training and education to the youth population that it serves. The Committee may provide other advice and recommendations with regard to identifying and overcoming problems, planning program or center development or strengthening relations between Job Corps and agencies, institutions, or groups engaged in related activities.

Agenda: The agenda for the meeting is as follows:

• Overview of the Job Corps Program and the current state of the Program;

• Discussion of Job Corps new vision for student achievement and 21st century high-growth jobs;

• Discussion of on-board strength and retention issues; and

• Discussion of overall performance of the program.

Public Participation: The meeting will be open to the public. Seating will be available to the public on a first-come, first-served basis. Seats will be reserved for the media. People with disabiities should contact the Job Corps Official, listed below, if special accommodations are needed.

Signed at Washington, DC, this 18th day of June, 2007.
Esther R. Johnson,
National Director, Office of Job Corps.

[FR Doc. E7-12074 Filed 6-21-07; 8:45 am]

BILLING CODE 4510-23-P